NATIONAL AERONAUTICS AND SPACE ADMINISTRATION

[Notice: 24-071]

Earth Science Advisory Committee

AGENCY: National Aeronautics and Space Administration.

ACTION: Notice of meeting.

SUMMARY: In accordance with the Federal Advisory Committee Act, the National Aeronautics and Space Administration (NASA) announces a meeting of the Earth Science Advisory Committee (ESAC).

DATES: Monday, October 28, 2024, 12-1:30 p.m. All times are eastern time.

ADDRESSES: Public attendance will be virtual only. See dial-in and Webinar information below under Supplementary Information.

FOR FURTHER INFORMATION CONTACT: Lucia Tsaoussi, Designated Federal Officer, Earth Scince Advisory Committee, NASA Headquarters, Washington, DC 20546, via email at Lucia.s.Tsaoussi@nasa.gov or 202-358-4471.

SUPPLEMENTARY INFORMATION: As noted above, this meeting will be open to the public via Webinar and telephonically. Webinar connectivity information is provided below. For audio, when you join the Webinar event, you may use your computer or provide your phone number to receive a call back, otherwise, call the U.S. toll conference number listed. On Monday, October 28, 2024, the event address for attendees is: webinar web link https://nasaenterprise.webex.com/nasaenterprise/j.php?MTID=m920ce633f73c0ef6da75b961fbc484a8.

The webinar number is 2830 385 0130 and the webinar password is u4sWmR8XZ@4. If needed, the U.S. toll conference number is 1-929-251-9612 or 1-213-269-5091 and access code is 2830 385 0130 and password is 84796789.

The agenda for the meeting includes the following topic:

—Earth Science Program Annual Performance Review According to the Government Performance and Results Act Modernization Act

It is imperative that these meeting be held on these days to accommodate the scheduling priorities of the key participants.

For more information, please visit https://science.nasa.gov/researchers/nac/science-advisory-committees/esac/.

Jamie M. Krauk,
Advisory Committee Management Officer, National Aeronautics and Space Administration.

[FR Doc. 2024-23818 Filed 10-15-24; 8:45 am]

BILLING CODE 7510-13-P